DEPARTMENT OF VETERANS AFFAIRS

Special Medical Advisory Group, Notice of Meeting

The Department of Veterans Affairs (VA) gives notice under the Federal Advisory Committee Act, 5 U.S.C. Ch. 10, that the Special Medical Advisory Group (the Committee) will meet on Tuesday, August 5, 2025, from approximately 8:00 a.m. to 5:30 p.m. Eastern Time (ET), at the Department of Veterans Affairs Central Office, 810 Vermont Avenue NW (Conference Rooms 830 (primary) and 823 (secondary) in Washington, DC 20420.

Members of the Committee and Veterans Health Administration (VHA) Leadership may join in person or virtually. The public will only be able to attend virtually. The meeting is open to the public, except when the Committee breaks for lunch between approximately 11:50 a.m. and 12:45 p.m. ET.

The meeting can be joined by phone at 404-397-1596 (Access code: 28287784540) and via Webex at: https://veteransaffairs.webex.com/veteransaffairs/j.php?MTID=m60543e870299a71344ca0d068776121b. Please contact the point of contact below for assistance connecting.

The purpose of the Committee is to advise the Secretary of Veterans Affairs and the Under Secretary for Health on the care and treatment of Veterans. On August 5, 2025, the agenda for the meeting will include discussions on strategies for improved suicide prevention, ending homelessness, improved direct patient care, utilization of community care, and federal electronic health record deployment. The meeting includes time reserved for live public comment from 12:45 p.m. to 1:15 p.m. ET. Each individual commenter will be afforded a maximum of five minutes to express their comments.

Members of the public may submit written statements for review by the Committee to: Department of Veterans Affairs, Special Medical Advisory Group—Office of Under Secretary for Health (10), Veterans Health Administration, 810 Vermont Avenue NW, Washington, DC 20420, or by email at VASMAGDFO@va.gov. Comments will be accepted until close of business on Tuesday, July 22, 2025.

Any member of the public wishing to attend the meeting or seeking additional information should email VASMAGDFO@va.gov or call 785-817-2529.

Dated: July 8, 2025.
LaTonya L. Small,
Federal Advisory Committee Management Officer.

[FR Doc. 2025-12927 Filed 7-10-25; 8:45 am]

BILLING CODE 8320-01-P